DEPARTMENT OF TRANSPORTATION

Federal Aviation Administration

14 CFR Part 39

[Docket No. FAA-2005-20850; Directorate Identifier 2005-NE-05-AD]

RIN 2120-AA64

Airworthiness Directives; Teledyne Continental Motors GTSIO-520 Series Reciprocating Engines

AGENCY: Federal Aviation Administration (FAA), DOT.

ACTION: Notice of proposed rulemaking (NPRM).

SUMMARY: The FAA proposes to adopt a new airworthiness directive (AD) for Teledyne Continental Motors (TCM) GTSIO-520 series reciprocating engines. This proposed AD would require initial and repetitive visual inspections of the starter adapter assembly and crankshaft gear. This proposed AD would also require unscheduled visual inspections of the starter adapter assembly and crankshaft gear due to a rough-running engine. This proposed AD would also require replacement of the starter adapter shaft gear needle bearing with a certain bushing. Also, this proposed AD would require installation of a certain TCM service kit at the next engine overhaul, or at the next starter adapter replacement, whichever occurs first. Also, this proposed AD would require adding a certain placard to the instrument panel before further flight. This proposed AD results from six service difficulty reports and one fatal accident report received related to failed starter adapter assemblies. We are proposing this AD to prevent failure of the starter adapter assembly and or crankshaft gear, resulting in failure of the engine and possible forced landing.

DATES: We must receive any comments on this proposed AD by June 6, 2005.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400

Seventh Street, SW., Nassif Building, Room PL-401, Washington, DC 20590-001.

• Fax: (202) 493-2251.

• Hand Delivery: Room PL-401 on the plaza level of the Nassif Building, 400 Seventh Street, SW., Washington, DC, between 9 a.m. and 5 p.m., Monday through Friday, except Federal holidays.

You can get the service information identified in this proposed AD from Teledyne Continental Motors, Inc., PO Box 90, Mobile, AL 36601; telephone (251) 438-3411.

You may examine the comments on this proposed AD in the AD docket on the Internet at http://dms.dot.gov.

FOR FURTHER INFORMATION CONTACT: Jerry Robinette, Senior Engineer, Propulsion, Atlanta Aircraft Certification Office, FAA, Small Airplane Directorate, One Crown Center, 1895 Phoenix Blvd., Suite 450, Atlanta, GA 30349; telephone: (770) 703-6096, fax: (770) 703-6097.

SUPPLEMENTARY INFORMATION:

Comments Invited

We invite you to send us any written relevant data, views, or arguments regarding this proposal. Send your comments to an address listed under ADDRESSES. Include “Docket No. FAA-2005-20850; Directorate Identifier 2005-NE-05-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received and, any final disposition in person at the DMS Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Discussion

Between January 1980 and January 2001, we received one loss of airplane report and 34 service difficulty reports related to failure of the starter adapter assembly or crankshaft gear or both, on TCM GTSIO-520 series reciprocating engines. On March 2, 2001, we issued Special Airworthiness Information Bulletin (SAIB) No. NE-01-17. That SAIB states the following:

• Engine failure may occur if the starter adapter viscous damper becomes inoperative, due to overheating, or other causes.

• Continued operation of an engine with an overheated viscous damper may lead to failure of the starter adapter assembly and or crankshaft gear.

• Overheating of the viscous damper may be caused by exhaust gas leakage in the nacelle area, and in particular, the engine accessory section of the engine nacelle.

• A rough-running engine such as one with a misfiring ignition system, will cause overheating of the viscous damper.

• Recommendation to perform visual inspections and parts replacement as necessary, as described in TCM Critical Service Bulletin (CSB) No. CSB94-4D.

After we issued that SAIB, we received six service difficulty reports and one fatal accident report related to failed starter adapter assemblies. The fatal accident event indicates that the airplane may not have been in compliance with TCM CSB No. CSB94-4D. This condition, if not corrected, could result in failure of the starter adapter assembly and or crankshaft gear, resulting in failure of the engine, and possible forced landing.

Relevant Service Information

We have reviewed and approved the technical contents of TCM Mandatory Service Bulletin (MSB) No. MSB94-4E, dated January 24, 2005, that describes procedures for visual inspections of the starter adapter assembly and crankshaft gear and replacement of components as necessary. That MSB also describes procedures for replacement of the starter adapter shaft gear needle bearing with a bushing. That MSB also describes procedures for installation of TCM service kit, part number (P/N) EQ6642R, at next engine overhaul, or next starter adapter replacement, whichever occurs first.

Differences Between the Proposed AD and the Manufacturer's Service Information

Although TCM MSB No. MSB94-4E, dated January 24, 2005, is applicable to GIO-550 and GTSIO-520 series reciprocating engines, this proposed AD is only applicable to GTSIO-520 series reciprocating engines. Also, although that MSB mandates in Part 1, that magnetos must be overhauled and periodically inspected at specified times, this proposed AD does not mandate those actions.

FAA's Determination and Requirements of the Proposed AD

We have evaluated all pertinent information and identified an unsafe condition that is likely to exist or develop on other products of this same type design. We are proposing this AD, which would require:

• Before further flight, adding a placard to the instrument panel within view of the pilot that states, in ¼ inch-high or higher characters, “In accordance with AD (number to be provided), the pilot must report a rough-running engine that cannot be cleared by adjustment of the engine controls; particularly the fuel mixture setting, to maintenance personnel, immediately after landing.”

• Initial and repetitive visual inspections of the starter adapter assembly and crankshaft gear, and replacement of components as necessary.

• Unscheduled visual inspections of the starter adapter assembly and crankshaft gear due to a rough-running engine, and replacement of components as necessary.

• Replacement of the starter adapter shaft gear needle bearing, P/N 537721 with bushing, P/N 654472.

• Installation of TCM service kit, P/N EQ6642R, at next engine overhaul, or at next starter adapter replacement, whichever occurs first.

The proposed AD would require you to use the service information described previously to perform the inspections and replacements.

Costs of Compliance

There are about 5,300 TCM GTSIO-520 series reciprocating engines of the affected design in the worldwide fleet. We estimate that 4,240 engines installed on airplanes of U.S. registry would be affected by this proposed AD. We also estimate that it would take about one work hour per engine to perform one of the proposed inspections, and about one work hour per engine to perform the proposed bushing installation. We also estimate that it will take about six work hours per engine to install TCM service kit, P/N EQ6642R. The average labor rate is $65 per work hour. We estimate that about 25% (1,060) of the engines will require an unscheduled (rough-running engine) inspection. We also estimate that each engine will have eight 100-hour inspections per year, and two 400-hour inspections per year. We also estimate that about 50% (2,120) of the engines will require the bushing installed and TCM service kit, P/N EQ6642R installed. Required bushings would cost about $16 per engine and required service kits would cost about $800 per engine. Based on these figures, we estimate the total cost of the proposed AD to U.S. operators to be $5,518,932.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary at the address listed under ADDRESSES.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Teledyne Continental Motors: Docket No. FAA-2005-20850; Directorate Identifier 2005-NE-05-AD.

Comments Due Date

(a) The Federal Aviation Administration (FAA) must receive comments on this airworthiness directive (AD) action by June 6, 2005.

Affected ADs

(b) None.

Applicability

(c) This AD applies to Teledyne Continental Motors (TCM) GTSIO-520 series reciprocating engines. These engines are installed on, but not limited to, Twin Commander (formerly Aero Commander) model 685, Cessna model 404, 411 series, and 421 series, British Aerospace, Aircraft Group, Scottish Division model B.206 series 2 and Aeronautica Macchi, model AM-3 airplanes.

Unsafe Condition

(d) This AD results from six service difficulty reports and one fatal accident report received related to failed starter adapter assemblies. We are issuing this AD to prevent failure of the starter adapter assembly and or crankshaft gear, resulting in failure of the engine and possible forced landing.

Compliance

(e) You are responsible for having the actions required by this AD performed within the compliance times specified unless the actions have already been done.

Aircraft Placard Installation and Compliance

(f) Before further flight, install a placard to the instrument panel in ¼ inch-high or higher characters, within plain view of the pilot that states: “In accordance with AD (number to be provided), the pilot must report a rough-running engine that cannot be cleared by adjustment of the engine controls; particularly the fuel mixture setting, to maintenance personnel, immediately after landing.”

Starter Adapter Shaft Gear Needle Bearing Replacement

(g) If, during an inspection required by paragraph (h), (i), (j), or (k) of this AD, you find needle bearing, part number (P/N) 537721, installed in the crankcase, replace it with bushing, P/N 654472, before reassembling components. Use the bushing installation procedure specified in Part 4 of TCM Mandatory Service Bulletin (MSB) No. MSB94-4E, dated January 24, 2005.

Unscheduled Inspections for Rough-Running Engines

(h) For any engine that experiences rough running conditions regardless of time-in-service (TIS), do the following:

(1) Before further flight, perform the inspection procedures specified in Part 1 and Part 3 of TCM MSB No. MSB94-4E, dated January 24, 2005, and replace components as necessary.

(2) An engine is considered rough-running if there is a sudden increase in the perceived vibration levels that cannot be cleared by adjustment of the engine controls; particularly the fuel mixture setting. Information on a rough running engine can be found in the aircraft manufacturer's Airplane Flight Manual, Pilot's Operating Handbook, or Aircraft Owners Manual.

100-Hour and Annual Inspections

(i) For any engine, at the next 100-hour or annual inspection, whichever occurs first, do the following:

(1) Perform the inspection procedures specified in Part 2 of TCM MSB No. MSB94-4E, dated January 24, 2005, and replace components as necessary.

(2) Thereafter, at each 100-hour inspection, (plus or minus 10 hours), and annual inspection, perform repetitive inspections and component replacements as specified in paragraph (h)(1) of this AD.

Starter Adapters With 400 Hours or More Time-In-Service (TIS) or Unknown TIS

(j) For any starter adapter with 400 hours or more TIS or unknown TIS on the effective date of this AD, do the following:

(1) Within 25 hours TIS, perform the inspection procedures specified in Part 3 of TCM MSB No. MSB94-4E, dated January 24, 2005, and replace components as necessary.

(2) Thereafter, at 400-hour TIS intervals, (plus or minus 10 hours), perform repetitive inspections and component replacements as specified in Part 3 of TCM MSB No. MSB94-4E, dated January 24, 2005, and replace components as necessary.

Starter Adapters With Fewer Than 400 Hours TIS

(k) For any starter adapter with fewer than 400 hours TIS on the effective date of this AD, do the following:

(1) Upon accumulation of 400 hours TIS, (plus or minus 10 hours), perform the inspection procedures specified in Part 3 of TCM MSB No. MSB94-4E, dated January 24, 2005, and replace components as necessary.

(2) Thereafter, at 400-hour TIS intervals, (plus or minus 10 hours), perform repetitive inspections and component replacements, as specified in Part 3 of TCM MSB No. MSB94-4E, dated January 24, 2005, and replace components as necessary.

Installation of TCM Service Kit, EQ6642R

(l) At the next engine overhaul or starter adapter replacement after the effective date of this AD, whichever occurs first, do the following:

(1) Install TCM service kit, P/N EQ6642R. Use the service kit installation procedures specified in Part 5 of TCM MSB No. MSB94-4E, dated January 24, 2005.

(2) Continue performing the inspections and component replacements specified in paragraphs (i), (j), and (k) of this AD.

Prohibition of Special Flight Permits for Rough-Running Engines

(m) Special flight permits are prohibited for rough-running engines described in paragraph (h)(2) of this AD.

Alternative Methods of Compliance

(n) The Manager, Atlanta Aircraft Certification Office, has the authority to approve alternative methods of compliance for this AD if requested using the procedures found in 14 CFR 39.19.

Related Information

(o) European Aviation Safety Agency AD 2004-0006, dated December 15, 2004, also addresses the subject of this AD.

Issued in Burlington, Massachusetts, on March 30, 2005.
Diane Cook,
Acting Manager, Engine and Propeller Directorate, Aircraft Certification Service.

[FR Doc. 05-6775 Filed 4-5-05; 8:45 am]

BILLING CODE 4910-13-P